DEPARTMENT OF TRANSPORTATION

Federal Aviation Administration

[Docket No. FAA-2022-1711]

Agency Information Collection Activities: Requests for Comments; Clearance of Renewed Approval of Information Collection: Carbon Offsetting and Reduction Scheme for International Aviation (CORSIA) Monitoring, Reporting, and Verification (MRV) Program

AGENCY: Federal Aviation Administration (FAA), DOT.

ACTION: Notice and request for comments.

SUMMARY: In accordance with the Paperwork Reduction Act of 1995, FAA invites public comments about our intention to request the Office of Management and Budget (OMB) approval for a renewed information collection. The Federal Register Notice with a 60-day comment period soliciting comments on the following collection of information was published on January 25, 2023. FAA received two comments to this notice. The collection involves a request that airplane operators subject to the applicability of Annex 16, Volume IV of the Convention on Civil Aviation (hereinafter the “Chicago Convention”) submit electronically an Emissions Monitoring Plan (EMP), an annual Emissions Report (ER), and an optional annual ER CORSIA Eligible Fuels Annex (CEFA) to the FAA. The information to be collected is necessary because FAA will use the information to fulfill the United States' responsibilities under the Chicago Convention.

DATES: Written comments should be submitted by September 25, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Kevin Partowazam by email at: Kevin.Partowazam@faa.gov; phone: 202-267-3563.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0790.

Title: CORSIA Monitoring, Reporting, and Verification (MRV) Program.

Form Numbers: 1. Emissions Monitoring Plan (EMP) Template; 2. Emissions Report (ER) Template; 3. ER CORSIA Eligible Fuels Annex (CEFA).

Type of Review: Clearance of a renewal of an information collection.

Background: The Federal Register Notice with a 60-day comment period soliciting comments on the following collection of information was published on January 25, 2023 (88 FR 4878). FAA received two comments in response to this notice.

The CORSIA MRV Program is a voluntary program for certain U.S. air carriers and commercial operators (collectively referred hereinafter as “operators”) to submit certain airplane CO2 emissions data to the FAA to enable the United States to establish uniformity with ICAO Standards And Recommended Practices (SARPs) for CORSIA, which were adopted in June 2018, as Annex 16, Volume IV to the Chicago Convention. The United States supported the decision to adopt the CORSIA SARPs based on the understanding that CORSIA is the exclusive market-based measure applying to international aviation, and that CORSIA will ensure fair and reciprocal commercial competition by avoiding a patchwork of country- or regionally-based regulatory measures that are inconsistently applied, bureaucratically costly, and economically damaging. Furthermore, continued U.S. support for CORSIA assumes a high level of participation by other countries, particularly by countries with significant aviation activity, as well as a final CORSIA package that is acceptable to, and implementable by, the United States.

Under CORSIA, all ICAO Member States whose airplane operators undertake international flights were required to develop an MRV system for CO2 emissions from those international flights starting January 1, 2019. The FAA's CORSIA MRV Program is intended to be the United States' MRV system for monitoring, reporting, and verification of U.S. airplane operator CO2 emissions from international flights. Operators that are subject to the applicability of CORSIA will submit their EMPs, ERs, and optional ER CEFAs electronically.¹

¹ CORSIA applies to airplane operators that produce annual CO2 emissions greater than 10,000 tonnes (i.e., 10,000 metric tons) from international flights, excluding emissions from excluded flights. The following activities are excluded CORSIA:

—Domestic flights;

—Humanitarian, medical, and firefighting operations, including flight(s) preceding or following a humanitarian, medical, or firefighting flight provided such flight(s) were conducted with the same airplane, were required to accomplish the related humanitarian, medical, or firefighting activities or to reposition thereafter the airplane for its next activity;

—Operations using an airplane with a maximum certificated take-off mass equal to or less than 5,700 kg;

—Operations on behalf of the military.

Each document use Microsoft Excel-based templates and can be transmitted via email. EMPs that are submitted by operators will be used as a collaborative tool between the operator and FAA to document a given operator's chosen fuel use monitoring procedures. FAA will retain a copy of the EMP and will share with ICAO a list of operators that submit EMPs. FAA will not submit any specific EMPs from U.S. operators to ICAO. Large operators, i.e., those emitting 500,000 metric tons or more of CO2 per year, will gather data through a “fuel use monitoring method.” Small operators, i.e., those emitting less than 500,000 metric tons of CO2 per year, can use a simplified monitoring method. Annual ERs that are submitted to FAA by operators and verifiers will be used to document each operators' international emissions. FAA will use the ERs, and optional ER CEFAs, to calculate aggregated emissions data for all U.S. operators. FAA will submit the aggregated emissions data to ICAO to demonstrate U.S. implementation of CORSIA.

Respondents: Respondents will be airplane operators subject to the applicability of Annex 16, Volume IV of the Chicago Convention. FAA expects between 42 and 50 operators to submit an EMP and ER. Some additional operators could submit an EMP and ER over time based on their international aviation activities.

Frequency: An EMP is a one-time submission. An ER and optional ER CEFA is an annual submission.

Estimated Average Burden per Response:

—For an EMP (one-time submission), FAA expects that filling and submitting an EMP could on average take approximately 28.6 hours.

—For an ER (annual submission), FAA expects that the reporting burden could be approximately 68 hours per operator using a Fuel Use Monitoring Method, inclusive of approximately 8 hours per operator that chooses to voluntarily submit an optional ER CEFA. FAA expects the reporting burden could be approximately 21.5 hours per operator for operators using a simplified Monitoring Method, inclusive of approximately 4 hours per operator that chooses to voluntarily submit an optional ER CEFA.

Estimated Total Annual Burden: Based on the above, FAA expects that the annual submission of an EMP and ER, including optional ER CEFA, could take approximately 37.5 to 115.5 hours for each of the 42-50 operators.

Issued in Washington, DC, on August 21, 2023.
Julie Marks,
Executive Director (Acting), Office of Environment and Energy.

[FR Doc. 2023-18319 Filed 8-24-23; 8:45 am]

BILLING CODE 4910-13-P